DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Tilefish Quota Monitoring.

Form Number(s): None.

OMB Approval Number: None.

Type of Request: Regular submission.

Burden Hours: 19.

Number of Respondents: 4.

Average Hours Per Response: 20 minutes.

Needs and Uses: This family of forms includes data collection activities for monitoring fishery quotas, routine collections of monthly statistics from seafood dealers and interviews with fishermen to collect catch/effort and biological data. This request extends the existing collection to seafood dealers that handle the four species in the tilefish complex. This collection is necessary to monitor the fishery quota for this complex as established by the Gulf of Mexico Reef Fish Fishery Management Plan.

Affected Public: Business or other for-profit organizations; Individuals or households.

Frequency: Monthly for 10 months and every 2 weeks for last 2 months of year.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 14, 2005.
Gwellnar Banks,
Management Analyst, Office of the Chief Information Officer.

[FR Doc. 05-7775 Filed 4-18-05; 8:45 am]

BILLING CODE 3510-22-P